DEPARTMENT OF JUSTICE

Notice of Lodging Proposed Consent Decree

In accordance with Departmental Policy, 28 CFR 50.7, notice is hereby given that a proposed Consent Decree in Sierra Club, et al. v. MasTec North America, Inc., et al., No. 03-1697-HO (D. Or.), consolidated with United States v. MasTec, Inc., et al., No. 06-6071-HO (D. Or.), was lodged with the United States District Court for the District of Oregon on August 19, 2008.

This proposed Consent Decree concerns complaints filed by the United States against MasTec, Inc. and MasTec North America, Inc. pursuant to section 301(a) of the Clean Water Act, 33 U.S.C. 1311(a), to obtain, among other things, injunctive relief from and to impose civil penalties against MasTec, Inc. and MasTec North America, Inc. for violating the Clean Water Act by discharging pollutants in violation of a permit and without a permit into waters of the United States. The proposed Consent Decree resolves certain of the allegations against MasTec, Inc. and MasTec North America, Inc. by requiring them to provide for environmental mitigation and to pay a civil penalty.

The Department of Justice will accept written comments relating to this proposed Consent Decree for thirty (30) days from the date of publication of this Notice. Please address comments to Kent E. Hanson, Environmental Defense Section, P.O. Box 23986, Washington, DC 20026-3986, and refer to United States v. MasTec, Inc., DJ # 90-5-1-1-17191.

The proposed Consent Decree may be examined at the Clerk's Office, United States District Court for the District of Oregon, Wayne L. Morse U.S. Courthouse, 405 East Eighth Avenue, Room 2100, Eugene, OR 97401. In addition, the proposed Consent Decree may be viewed at http://www.usdoj.gov/enrd/Consent_Decrees.html .

Russell Young,
Assistant Chief, Environmental Defense Section, Environment & Natural Resources Division.

[FR Doc. E8-19817 Filed 8-26-08; 8:45 am]

BILLING CODE 4410-15-P